DEPARTMENT OF HEALTH AND HUMAN SERVICES

Administration for Children and Families

Office of Human Services Emergency Preparedness and Response Statement of Organization, Functions, and Delegations of Authority

AGENCY: Administration for Children and Families, Health and Human Services (HHS).

ACTION: Notice.

SUMMARY: Statement of Organizations, Functions, and Delegations of Authority.

The Administration for Children and Families (ACF) is realigning the Office of Human Services Emergency Preparedness and Response (OHSEPR), including the U.S. Repatriation Program. OHSEPR will be a direct report to the Principal Deputy Assistant Secretary (PDAS) for the ACF. The Division of Emergency Policy and Planning will be realigned into the following Divisions:

1. Division of Operations;

2. Division of Intelligence;

3. Division of Planning, Training, and Exercises.

Lastly, it changes the reporting relationship from a direct report to the Deputy Assistant Secretary for External Affairs to a direct report to the PDAS for ACF.

FOR FURTHER INFORMATION CONTACT: Natalie Grant, Director for OHSEPR, (202) 205-7843, 330 C Street SW, Washington, DC 20201.

SUPPLEMENTARY INFORMATION: This notice amends Part K of the Statement of Organization, Functions, and Delegations of Authority of the Department of Health and Human Services (HHS), ACF, as follows: Chapter KA, Immediate Office of the Assistant Secretary as last amended in 80 FR 63555-63558, October 20, 2015; Chapter KW, Office of Human Services Emergency Preparedness and Response as last amended in 80 FR 63555-63558, October 20, 2015; and Chapter KW, Office of Human Services Emergency Preparedness and Response as last amended in 83 FR 40517-40519, August 15, 2018.

I. Under KW, The Office of Human Services Emergency Preparedness and Response, delete KW.00 Mission in its entirety and replace with:

KW.00 Mission. The Office of Human Services Emergency Preparedness and Response (OHSEPR) promotes resilience of vulnerable individuals, children, families, and communities impacted by disasters and public health emergencies. OHSEPR provides disaster human services expertise to ACF grantees, partners, and stakeholders during preparedness, response, and recovery operations for emergency and disaster events. Working closely with ACF Program Offices, OHSEPR coordinates ACF's planning, policy, and operations for emergency and disaster preparedness, response, and recovery. OHSEPR supports fulfillment of disaster human services within the integrated response and recovery operations of HHS. OHSEPR administers the Disaster Human Services Case Management (DHSCM) Program and the U.S. Repatriation Program. OHSEPR manages the ACF Continuity of Operation Plan, which directs how ACF's mission essential functions (MEFs) are performed during a wide range of disruptions or emergencies.

II. Under KW, Office of Human Services Emergency Preparedness and Response, delete KW.10 Organization in its entirety and replace with:

KW.10 Organization. OHSEPR is headed by a Director, who reports to the Principal Deputy Assistant Secretary (PDAS) for ACF, and consists of:

Office of the Director (KWA)

Division of Operations (KWB)

Division of Intelligence (KWC)

Division of Planning, Training, and Exercises (KWD)

III. Under KW, Office of Human Services Emergency Preparedness and Response, delete KW.20 Functions in its entirety and replace with:

KW.20 Functions. A. The Office of the Director is responsible for the administrative oversight and strategic direction of all OHSEPR programs, projects, and activities. The Office serves as advisor to the Assistant Secretary for Children and Families and the PDAS in the areas of emergency management and disaster human services. The Office of the Director leads preparedness efforts to ensure that OHSEPR is positioned to lead disaster human services operations on behalf of ACF and the Department; coordinates with lead federal and non-federal emergency management, public health, and human service partners; and oversees OHSEPR's disaster response and recovery operations. The Deputy Director reports to the Director and represents the Director in an “alter-ego” capacity to carry out the responsibilities and oversight of the OHSEPR. The Deputy Director oversees the Division of Operations, Division of Intelligence, and Division of Planning, Training, and Exercise.

The Office of the Director manages budgetary and legal matters affecting OHSEPR, administers human resources and program evaluation functions, and ensures alignment of activities by all OHSEPR divisions with the Director's strategy and applicable laws, policies, doctrines, and frameworks related to the provision of HHS and ACF's disaster human services, repatriation, and business continuity operations. The Office of the Director develops guidance, legislative proposals, and routine interpretations of policy.

The Office of the Director provides administrative, grant-making, financial management, budget, and contract officer representative (COR) direction and support to OHSEPR. Staff responsibilities include, but are not limited to: (1) Serving as the Executive Secretariat for OHSEPR, including managing correspondence, correspondence systems, and public requests; (2) coordinating human resources activities; and (3) as appropriate, development of internal policies and procedures relating to these activities. The Office of the Director supports the implementation of strategic initiatives and oversees communications for the offices, including responses to media and Congressional inquiries in coordination through ACF's Office of Communications and Office of Legislation and Budget.

B. The Division of Operations is responsible for leading ACF's disaster human services operations in response to emergencies, major disasters, public health emergencies, and the repatriation of U.S. citizens and their dependents. Deployable missions may include the DHSCM Program, the U.S. Repatriation Program missions, and ACF human services subject matter experts and staffing assets for incident planning, response, and recovery. This Division works closely with emergency management, public health, and human service federal and non-federal partners.

The DHSCM Program supports states, tribes, and territories in establishing the capacity to coordinate and provide disaster case management services. This Division maintains the capability to deploy DHSCM teams upon activation by the Director. The Division administers an electronic case record management system to provide DHSCM services in accordance with data management laws and regulations.

The U.S. Repatriation Program provides temporary assistance to U.S. citizens and their dependents returning to the United States by the Department of State as authorized under Section 1113 of the Social Security Act and Public Law 86-571, 24 U.S.C. 321-329, and other applicable regulations and executive orders. Temporary assistance includes transportation, shelter, medical care, and other goods and services. This Division works closely with states, the Department of State, and other federal and non-federal partners to execute mission operations and provide support during incidents.

This Division manages capabilities for other operations, including deployment and management of requested human services subject matter experts and response and recovery staffing assets; coordinates ACF support for federal emergency missions; and liaises with federal interagency and other partners in response and recovery.

C. The Division of Intelligence is responsible for maintaining situational awareness of developing and no-notice incidents, monitoring conditions that may prompt the repatriation of U.S. citizens back to the United States, coordinating information management needs of disaster human services response and recovery operations, and conducting threat assessments in response to emergencies, major disasters, public health emergencies in order to identify impacts to ACF grantees, human services providers, and vulnerable communities.

D. The Division of Planning, Training, and Exercises is responsible for administering OHSEPR's planning activities to support readiness of operations. This Division carries out “steady state” activities to ensure readiness of deployable and non-deployable assets and programs, including the development of plans, guides, procedures, training, exercises, and staffing assets. This Division ensures human service impacts from disasters affecting ACF programs and human services providers are addressed in HHS-wide and government-wide emergency planning and policymaking. This Division works closely with ACF programs, grantees and stakeholders, HHS operating divisions, federal human service programs, and state and local human service programs.

The Division is responsible for coordinating the development and currency of ACF Continuity of Operations Plans (COOP) as required by the Presidential Policy Directive 40 (PPD-40), National Continuity Policy, and as directed by the Administrator of FEMA. This Division ensures the COOP meets established continuity program and planning requirements for executive departments and agencies, and contains defined elements outlined in established frameworks, requirements, and processes.

IV. Under Chapter KA, Office of the Assistant Secretary for Children and Families, delete KA.20 Functions, Paragraph A in its entirety and replace with the following:

KA.20 Functions. A. The Office of the Assistant Secretary for Children and Families is responsible to the Secretary for carrying out ACF's mission and provides executive supervision of the major components of ACF. These responsibilities include providing executive leadership and direction to plan and coordinate ACF program activities to ensure their effectiveness; approving instructions, policies, publications, and grant awards issued by ACF; and representing ACF in relationships with governmental and non-governmental organizations. The Principal Deputy Assistant Secretary serves as an alter ego to the Assistant Secretary for Children and Families on program matters and acts in the absence of the Assistant Secretary for Children and Families. The Chief of Staff advises the Assistant Secretary for Children and Families and provides executive leadership and direction to the operations of ACF. The Deputy Assistant Secretary for External Affairs provides executive leadership and direction to the Office of Regional Operations. The Deputy Assistant Secretary for Early Childhood Development serves as a key liaison and representative to the Department for early childhood development on behalf of the Assistant Secretary, ACF, and to other agencies across the government on behalf of the Department. The Deputy Assistant Secretary for Policy has responsibility for cross-program coordination of ACF initiatives, including efforts to promote interoperability and program integration.

V. Continuation of Policy. Except as inconsistent with this reorganization, all statements of policy and interpretations with respect to organizational components affected by this notice within ACF, heretofore issued and in effect on this date of this reorganization, are continued in full force and effect.

VI. Delegation of Authority. All delegations and re-delegations of authority made to officials and employees of affected organizational components will continue in them or their successors pending further re-delegations, provided they are consistent with this reorganization.

VII. Funds, Personnel, and Equipment. Transfer of organizations and functions affected by this reorganization shall be accompanied in each instance by direct and support funds, positions, personnel, records, equipment, supplies, and other resources.

This reorganization will be effective upon date of signature.

Dated: August 20, 2020.
Linda Hitt,
Certifying Officer.

[FR Doc. 2020-18678 Filed 8-25-20; 8:45 am]

BILLING CODE 4184-34-P